DEPARTMENT OF LABOR

Employment and Training Administration

[NAFTA-04606]

Collis, Inc., Elizabethtown, Kentucky; Notice of Revised Determination on Reconsideration

On December 17, 2001, the Department, issued a Notice of Affirmative Determination Regarding Application for Reconsideration regarding the petition for workers of the subject firm.

The initial investigation resulted in a negative determination issued on August 8, 2001, because criteria (3) and (4) of paragraph (a)(1) of section 250 of the Trade Act of 1974, as amended, were not met. There was no company imports from Canada or Mexico, nor was production shifted from the subject facility to Mexico or Canada.

New information received by the Department shows that a meaningful portion of plant production was shifted to Mexico during the relevant period. The workers at the subject plant were engaged in employment related to the production of residential refrigerator shelves and were not separately identifiable by product line.

Conclusion

After careful review of the facts obtained in the investigation, I conclude that there was a shift in production from the workers' firm to Mexico of articles that are like or directly competitive with those produced by the subject firm. In accordance with the provisions of the Trade Act, I make the following certification:

All workers of Collis, Inc., Elizabethtown, Kentucky who became totally or partially separated from employment on or after February 16, 2000 are eligible to apply for NAFTA-TAA under Section 250 of the Trade Act of 1974.

Signed in Washington, DC this 14th day of January 2002.
Edward A. Tomchick,
Director, Division of Trade Adjustment Assistance.

[FR Doc. 02-1778 Filed 1-23-02; 8:45 am]

BILLING CODE 4510-30-M